DEPARTMENT OF ENERGY

Federal Energy Regulatory Commission

Combined Notice of Filings #1

Take notice that the Commission received the following electric rate filings:

Docket Numbers: ER20-2283-004.

Applicants: Midcontinent Independent System Operator, Inc.

Description: Compliance filing: 2022-06-08_SA 3517 3rd Substitute NSP-MDU FSA (J316) to be effective 7/1/2020.

Filed Date: 6/8/22.

Accession Number: 20220608-5077.

Comment Date: 5 p.m. ET 6/29/22.

Docket Numbers: ER22-379-002.

Applicants: Southwest Power Pool, Inc.

Description: Tariff Amendment: Second Deficiency Response—Revisions to Implement ELCC Methodology to be effective 2/15/2022.

Filed Date: 6/8/22.

Accession Number: 20220608-5039.

Comment Date: 5 p.m. ET 6/29/22.

Docket Numbers: ER22-772-002.

Applicants: New York Independent System Operator, Inc.

Description: Compliance filing: Compliance re: BSM Capacity Accreditation Market Design May 2022 order to be effective 6/8/2022.

Filed Date: 6/8/22.

Accession Number: 20220608-5071.

Comment Date: 5 p.m. ET 6/29/22.

Docket Numbers: ER22-895-001.

Applicants: Southwest Power Pool, Inc.

Description: 3908 Thunderhead/Evergy KS Central Meter Ag Supplemental to be effective N/A.

Filed Date: 6/8/22.

Accession Number: 20220608-5063.

Comment Date: 5 p.m. ET 6/29/22.

Docket Numbers: ER22-1607-001.

Applicants: PJM Interconnection, L.L.C.

Description: Tariff Amendment: Amendment to ISA, SA No. 5869; Queue No. AE2-126 (amend) to be effective 12/3/2020.

Filed Date: 6/8/22.

Accession Number: 20220608-5114.

Comment Date: 5 p.m. ET 6/13/22.

Docket Numbers: ER22-1710-001.

Applicants: Duke Energy Florida, LLC.

Description: Tariff Amendment: DEF—Amendment to Annual Filing of Cost Factor Updates to be effective 5/1/2022.

Filed Date: 6/8/22.

Accession Number: 20220608-5049.

Comment Date: 5 p.m. ET 6/29/22.

Docket Numbers: ER22-1777-001.

Applicants: Madison Fields Solar Project, LLC.

Description: Tariff Amendment: Supplement to Petition for Market-Based Rate Authorization to be effective 6/29/2022.

Filed Date: 6/8/22.

Accession Number: 20220608-5058.

Comment Date: 5 p.m. ET 6/29/22.

Docket Numbers: ER22-1779-001.

Applicants: Marion County Solar Project, LLC.

Description: Tariff Amendment: Supplement to Petition for Market-Based Rate Authorization to be effective 6/29/2022.

Filed Date: 6/8/22.

Accession Number: 20220608-5059.

Comment Date: 5 p.m. ET 6/29/22.

Docket Numbers: ER22-2050-000.

Applicants: Public Service Company of Colorado.

Description: § 205(d) Rate Filing: 2022-06-07 PSC-HLYCRS-Const Agrmt-Crystal-669-0.0.0 to be effective 6/7/2022.

Filed Date: 6/7/22.

Accession Number: 20220607-5147.

Comment Date: 5 p.m. ET 6/28/22.

Docket Numbers: ER22-2051-000.

Applicants: East Kentucky Power Cooperative, Inc.

Description: East Kentucky Power Cooperative, Inc. submits revised depreciation rates under Attachment H-24A of the PJM Tariff to be effective 6/1/2022.

Filed Date: 5/31/22.

Accession Number: 20220531-5446.

Comment Date: 5 p.m. ET 6/21/22.

Docket Numbers: ER22-2052-000.

Applicants: Public Service Company of New Mexico.

Description: § 205(d) Rate Filing: Executed Third Revised TSA No. 241 to be effective 7/1/2022.

Filed Date: 6/8/22.

Accession Number: 20220608-5033.

Comment Date: 5 p.m. ET 6/29/22.

Docket Numbers: ER22-2053-000.

Applicants: Public Service Company of Colorado.

Description: § 205(d) Rate Filing: 2022-06-08-PSCo-HLYCRS-Const Agrmt-Parachute-634-0.0.0 to be effective 6/9/2022.

Filed Date: 6/8/22.

Accession Number: 20220608-5072.

Comment Date: 5 p.m. ET 6/29/22.

Docket Numbers: ER22-2054-000.

Applicants: San Diego Gas & Electric Company.

Description: § 205(d) Rate Filing: W188 SGIA to be effective 6/9/2022.

Filed Date: 6/8/22.

Accession Number: 20220608-5094.

Comment Date: 5 p.m. ET 6/29/22.

Take notice that the Commission received the following electric securities filings:

Docket Numbers: ES22-48-000; ES22-49-000.

Applicants: Entergy Louisiana, LLC, Entergy Mississippi, LLC.

Description: Application Under Section 204 of the Federal Power Act for Authorization to Issue Securities of Entergy Louisiana, LLC, et al.

Filed Date: 6/8/22.

Accession Number: 20220608-5110.

Comment Date: 5 p.m. ET 6/20/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 8, 2022.
Debbie-Anne A. Reese,
Deputy Secretary.

[FR Doc. 2022-12761 Filed 6-13-22; 8:45 am]

BILLING CODE 6717-01-P